DEPARTMENT OF COMMERCE

Minority Business Development Agency

Proposed Information Collection; Comment Request; Survey of Minority-Owned Business Participation, Opportunities and Barriers to Global Commerce

AGENCY: Minority Business Development Agency, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 14, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Ivonne Cunarro, Research and Knowledge Management Unit, 202-482-2157, icunarro@mbda.gov.

SUPPLEMENTARY INFORMATION:

I. Abstract

The Minority Business Development Agency's (MBDA) Research and Knowledge Management unit will be conducting a survey of minority-owned businesses to gather data on their participation in global commerce. The survey will provide valuable information on the markets minority businesses are exporting goods to, job creation as a result of export activity, exporting minority business industries, and barriers and opportunities to exporting. Findings from this survey support President's Obama National Export Initiative, Executive Order 13534, which calls for doubling exports in five years and identifying and reducing barriers to exports. The survey also supports the MBDA's mission of furthering the growth and expansion of minority-owned businesses as exemplified in Executive Order 11625 and 15 CFR part 1400. The findings from the survey will also be published in a report and released during MBDA's Minority Enterprise Development Week Conference in September, 2011.

II. Method of Collection

The data will be collected electronically through the use of a web-based survey instrument.

III. Data

OMB Control Number: 0640-0027.

Form Number(s): None.

Type of Review: Regular submission.

Affected Public: Business or other for-profit organizations.

Estimated Number of Respondents: 1,000.

Estimated Time per Response: 45 minutes.

Estimated Total Annual Burden Hours: 750 hours.

Estimated Total Annual Cost to Public: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 9, 2010.
Gwellnar Banks,
Management Analyst, Office of the Chief Information Officer.

[FR Doc. 2010-31398 Filed 12-14-10; 8:45 am]

BILLING CODE 3510-21-P